ENVIRONMENTAL PROTECTION AGENCY

[EPA-R09-OAR-2012-0634; FRL-9912-72-Region-9]

Notice of Decision To Issue Clean Air Act PSD Permit for Sierra Pacific Industries-Anderson Division

AGENCY: Environmental Protection Agency (EPA).

ACTION: Notice of final agency action.

SUMMARY: This notice announces that the Environmental Protection Agency (EPA) Region 9 issued a final permit decision for a Clean Air Act Prevention of Significant Deterioration (PSD) permit to Sierra Pacific Industries for the Sierra Pacific Industries-Anderson Division (SPI-Anderson) facility.

DATES: EPA Region 9 issued a final PSD permit decision for the SPI-Anderson facility April 25, 2014. The PSD permit is effective on June 6, 2014. Pursuant to section 307(b)(1) of the Clean Air Act, 42 U.S.C. 7607(b)(1), judicial review of this final permit decision, to the extent it is available, may be sought by filing a petition for review in the United States Court of Appeals for the Ninth Circuit within 60 days of June 23, 2014.

ADDRESSES: Documents relevant to the above-referenced permit are available for public inspection during normal business hours at the following address: U.S. Environmental Protection Agency, Region 9, 75 Hawthorne Street, San Francisco, CA 94105-3901. To arrange for viewing of these documents, call Shaheerah Kelly at (415) 947-4156.

FOR FURTHER INFORMATION CONTACT: Shaheerah Kelly, Permits Office (Air-3), U.S. Environmental Protection Agency, Region 9, (415) 947-4156, kelly.shaheerah@epa.gov. Key portions of the administrative record for this decision (including the final permit, all public comments, EPA's responses to the public comments, and additional supporting information) are available through a link at Region 9's Web site, www.epa.gov/region09/air/permit/r9-permits-issued.html#psd, or at www.regulations.gov (Docket ID #EPA-R09-OAR-2011-0978). Anyone who wishes to review the EPA Environmental Appeals Board (EAB or Board) decision described below or documents in the EAB's electronic docket for its decision related to this matter can obtain them at http://www.epa.gov/eab/.

Notice Of Final Action And Supplementary Information: On April 25, 2014, EPA Region 9 issued its final permit decision (PSD Permit No. SAC 12-01) to SPI authorizing the construction and operation of a new 31 megawatt biomass and natural gas-fired cogeneration unit and auxiliary equipment at the SPI-Anderson facility in Anderson, California. EPA Region 9 had issued a previous decision regarding this project, on February 19, 2013. After petitions for review of that decision were filed with the EAB, the Board remanded the permit to EPA Region 9 in part and directed EPA Region 9 to reopen the permit proceedings to hold a public hearing, issue a final permit decision and respond to any new comments received during the hearing. See, In re Sierra Pacific Industries (Anderson Processing Facility), PSD Appeal Nos. 13-01 to 13-04, slip op. at 67 (EAB July 18, 2013). The EAB denied review of all other issues.

Following these events, we revised the PSD permit by including GHG emission limits and related requirements, as requested by SPI. Following the U.S. Court of Appeals for the District of Columbia vacatur of EPA's deferral of biogenic carbon dioxide emissions from PSD requirements, see, Ctr. for Biological Diversity v. EPA, 722 F.3d 401 (D.C. Cir. 2013), in August 2013, SPI-Anderson submitted to EPA a supplemental PSD application for GHG emissions. EPA Region 9 revised the PSD permit to include GHG emission limits and related requirements; we also revised certain other conditions (primarily related to monitoring, performance testing, and recordkeeping) to address minor technical issues we had identified since February 2013. We provided notice of public comment of the proposed PSD permit and a public hearing per 40 CFR 124 on November 8, 2013. In response to the EAB remand, we held a public hearing on December 10, 2013. We accepted public comments on the proposed PSD permit from November 8, 2013 until January 10, 2014.

On April 25, 2014, we issued the final PSD permit, our responses to public comments, and other key documents relevant to the final PSD permit in accordance with 40 CFR 52.21 and 40 CFR part 124. In our correspondence and notifications regarding the final PSD permit, we stated that the final permit decision will become effective 30 days after the service of notice of the decision unless our decision is appealed to the EAB pursuant to 40 CFR 124.19. Three petitions were submitted to the EAB. On June 5, 2014, the EAB dismissed these petitions for review of the final PSD permit decision for lack of jurisdiction.

EPA Region 9 has completed the remand proceedings in response to the EAB's Order, pursuant to 40 CFR 124.19(l)(2), and is issuing the final permit decision granting PSD Permit No. SAC 12-01 to SPI for the SPI-Anderson facility. All conditions of the PSD permit issued on April 25, 2014 are final and effective on June 6, 2014.

Dated: June 9, 2014.
Deborah Jordan,
Director, Air Division, Region IX.

[FR Doc. 2014-14596 Filed 6-20-14; 8:45 am]

BILLING CODE 6560-50-P